FEDERAL COMMUNICATIONS COMMISSION

[FR ID 318530]

Sunshine Act; Open Commission Meeting Tuesday, October 28, 2025

October 21, 2025.

The Federal Communications Commission will hold an Open Meeting on the subjects listed below on Tuesday, October 28, 2025, which is scheduled to commence at 10:30 a.m. in the Commission Meeting Room of the Federal Communications Commission, 45 L Street NE, Washington, DC. While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Space | Title: Space Modernization for the 21st Century (SB Docket No. 25-306). Summary: The Commission will consider a Notice of Proposed Rulemaking that would propose overhauling the Commission's rules for licensing space and earth stations to increase speed, predictability, and flexibility in order to support the American space economy. The Notice would propose replacing part 25 with a new rule part—part 100—that would create a “licensing assembly line” to process applications.
2 | Space | Title: Upper Microwave Flexible Use Service (SB Docket No. 25-305). Summary: The Commission will consider a Notice of Proposed Rulemaking that solicits comment on a variety of ways to encourage more intensive use of spectrum bands above 24 GHz that are shared between the terrestrial Upper Microwave Flexible Use Service (UMFUS) and the Fixed-Satellite Service (FSS).
3 | Engineering and Technology | Title: Protecting Against National Security Threats through the Equipment Authorization Program (ET Docket No. 21-232). Summary: The Commission will consider a Second Report and Order and Second Further Notice of Proposed Rulemaking to take the next important steps in modifying our equipment authorization program to protect our networks and communications supply chain against national security threats.
4 | Media | Title: Fifth Next Gen TV Further Notice (GN Docket No. 16-142). Summary: The Commission will consider a Further Notice of Proposed Rulemaking that seeks comment on steps to support and accelerate the nation's ongoing voluntary, market-based broadcast television transition to Next Gen TV by removing regulatory obstacles and giving flexibility to broadcasters.
5 | Wireline Competition | Title: Advancing IP Interconnection (WC Docket Nos. 25-304); Accelerating Network Modernization (WC Docket Nos. 25-208); and Call Authentication Trust Anchor (WC Docket No. 17-97). Summary: The Commission will consider a Notice of Proposed Rulemaking that would examine the interconnection requirements imposed on incumbent local exchange carriers, and seek comment on ways the Commission can facilitate a successful transition to all-IP interconnection for voice services while retaining critical oversight in areas of public safety and consumer protection.
6 | Consumer and Governmental Affairs | Title: Empowering Broadband Consumers Through Transparency (CG Docket No. 22-2). Summary: The Commission will consider a Further Notice of Proposed Rulemaking that would propose to eliminate certain broadband label requirements and seek comment on other ways to streamline the broadband label rules to reduce compliance burdens while preserving their consumer benefit.
7 | Consumer and Governmental Affairs | Title: Advanced Methods to Target and Eliminate Unlawful Robocalls (CG Docket No. 17-59); Call Authentication Trust Anchor (WC Docket No. 17-97); Rules and Regulations Implementing the Telephone Consumer Protection Act of 1991 (CG Docket No. 02-278); and Dismissal of Outdated or Otherwise Moot Robocalls Petitions (CG Docket No. 25-307). Summary: The Commission will consider a Further Notice of Proposed Rulemaking and Public Notice that would propose to give consumers accurate caller name and other information to help them better understand who is calling and whether to answer the call; propose to simplify, streamline, or eliminate outdated robocalls requirements; and provide notice that the Commission intends to dismiss certain older petitions for reconsideration and applications for review related to the Telephone Consumer Protection Act.
8 | Wireline Competition | Title: Incarcerated People's Communications Services (WC Docket Nos. 23-62); Implementation of the Martha Wright-Reed Act; and Rates for Interstate Inmate Calling Services (WC Docket Nos. 12-375). Summary: The Commission will consider a Report and Order, Order on Reconsideration, and Notice of Proposed Rulemaking that would establish new interim audio and video IPCS rate caps and correctional facilities rate additives for correctional facility cost recovery, and seek comment on establishing permanent rate caps, permanent rate additives, and continued prohibitions on site commissions and separate ancillary service charges.
9 | Wireless Telecommunications | Title: Deleting Obsolete and Duplicative Wireless Rules (GN Docket No. 25-133). Summary: The Commission will consider as part of the In re: Delete, Delete, Delete proceeding a Direct Final Rule that would move to delete approximately 400 primarily wireless-related rules and requirements that have sunset by operation of law; govern an expired event; regulate an obsolete technology; are no longer used in practice by the FCC or licensees; or are otherwise duplicative, outdated, or unnecessary. These rules pertain to a wide variety of now-defunct topics including regulatory reporting requirements, technology that is no longer used, and dates pertaining to transition plans, cost-sharing obligations, pilot programs, equipment requirements, and registration procedures that have long ago passed.

* * * * *

The meeting will be webcast at: www.fcc.gov/live. Open captioning will be provided as well as a text only version on the FCC website. Other reasonable accommodations, including live ASL interpretation, for people with disabilities are available upon request. In your request, include a description of the accommodation you will need and a way we can contact you if we need more information. Last minute requests will be accepted but may be impossible to fill. For reasonable accommodation requests at the October meeting, call 202-418-1463.

Press Access—Members of the news media are welcome to attend the meeting and will be provided reserved seating on a first-come, first-served basis. Following the meeting, the Chairman may hold a news conference in which he will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2025-20435 Filed 11-18-25; 11:15 am]

BILLING CODE 6712-01-P